DEPARTMENT OF HEALTH AND HUMAN SERVICES

Centers for Disease Control and Prevention

[Program Announcement 01157]

Public Health Disease Surveillance Initiative; Notice of Availability of Funds

A. Purpose

The Centers for Disease Control and Prevention (CDC) announces the availability of fiscal year (FY) 2001 funds for a one year grant program for the State of Delaware, Department of Health and Social Services, Public Health Disease Surveillance Initiative. This program addresses the “Healthy People 2010” focus area of Immunization and Infectious Diseases.

The purpose of the program is to build an integrated data management system that will allow the sharing of core data elements needed by the state to effectively fulfill their responsibilities for the surveillance and reporting of communicable diseases.

B. Eligible Applicants

Assistance will be provided only to the State of Delaware, Department of Health and Social Services, Public Health Disease Surveillance Initiative. No other applications are solicited. Eligibility is limited to the Delaware Department of Health and Social Services because fiscal year 2001 Federal appropriations specially directs the Centers for Disease Control and Prevention (CDC) to award to the Department of Health funds to build an integrated disease surveillance system.

Note: Title 2 of the United States Code, Chapter 26, Section 1611 states that an organization described in section 501(c)(4) of the Internal Revenue Code of 1986 that engages in lobbying activities is not eligible to receive Federal funds constituting an award, grant, cooperative agreement, contract, loan or other form.

C. Availability of Funds

Approximately $1,843,000 is available in FY 2001 to fund the award. It is expected that the award will begin on or about July 15, 2001, and will be made for a 12-month budget period within a project period of one year.

D. Where To Obtain Additional Information

To obtain additional information, contact: Juanita Crowder, Grants Management Specialist, Grants Management Branch, Procurement and Grants Office, Centers for Disease Control and Prevention, 2920 Brandywine Road, Room 3000, Atlanta, GA 30341-4146, Telephone: 770-488-2734, Email address: Jcrowder@cdc.gov.

For program technical assistance, contact: Barbara W. Kilbourne, R.N., M.P.H., Deputy, Integrated Health Information Systems, Office of the Director, Centers for Disease Control and Prevention, Mailstop D-68, Atlanta, GA 30333, 404-639-7860 (main#) ext. 7243 (pvt. line), 404-639-7770 (fax), Email address: Bkilbourne@cdc.gov.

Dated: May 11, 2001.
John L. Williams,
Director, Procurement and Grants Office, Centers for Disease Control and Prevention (CDC).

[FR Doc. 01-12417 Filed 5-16-01; 8:45 am]

BILLING CODE 4163-18-P